DEPARTMENT OF LABOR

Employment and Training Administration

[TA-W-64,133]

Cencorp, LLC, Longmont, CO; Notice of Negative Determination Regarding Application for Reconsideration

By application dated November 17, 2008, a company official requested administrative reconsideration of the Department's negative determination regarding eligibility for workers and former workers of the subject firm to apply for Trade Adjustment Assistance (TAA) and Alternative Trade Adjustment Assistance (ATAA). The denial notice was signed on October 23, 2008, and published in the Federal Register on November 10, 2008 (73 FR 66677).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, which was filed on behalf of workers at Cencorp, LLC, Longmont, Colorado, was based on the finding that the worker group does not produce an article within the meaning of Section 222 of the Trade Act of 1974.

In the request for reconsideration, the petitioner stated that workers of the subject firm were previously certified eligible for Trade Adjustment Assistance. The petitioner further stated that in order to reveal the import impact, the Department should consider the time period and events which were considered in the 2006 investigation. The petitioner appears to allege that because the subject firm was previously certified eligible for TAA, the workers of the subject firm should be granted another TAA certification.

When assessing eligibility for TAA, the Department exclusively considers production during the relevant time period (from one year prior to the date of the petition). Therefore, events occurring in 2006 are outside of the relevant period and are not relevant in this investigation.

The investigation revealed that workers of the subject firm were engaged in field support services for the foreign production of depaneling equipment during the relevant period. Specifically, the workers assisted their parent company located abroad in procuring materials. These functions, as described above, are not considered to be production of an article within the meaning of Section 222 of the Trade Act.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed at Washington, DC this 4th day of December 2008.
Elliott S. Kushner,
Certifying Officer, Division of Trade Adjustment Assistance.

[FR Doc. E8-29616 Filed 12-12-08; 8:45 am]

BILLING CODE 4510-FN-P